INTERNATIONAL TRADE COMMISSION

[Investigation No. 731-TA-459 (Review)]

Polyethylene Terephthalate (PET) Film From Korea

Determination

On the basis of the record ¹ developed in the subject five-year review, the United States International Trade Commission determines,² pursuant to section 751(c) of the Tariff Act of 1930 (19 U.S.C. 1675(c)) (the Act), that revocation of the antidumping duty order on PET film from Korea would be likely to lead to continuation or recurrence of material injury to an industry in the United States within a reasonably foreseeable time.

¹ The record is defined in sec. 207.2(f) of the Commission's Rules of Practice and Procedure (19 CFR 207.2(f)).

² Commissioner Thelma J. Askey dissenting.

Background

The Commission instituted this review on July 1, 1999 (64 FR 35685) and determined on October 1, 1999, that it would conduct an expedited review (64 FR 55958, October 15, 1999). The Commission transmitted its determination in this review to the Secretary of Commerce on February 16, 2000. The views of the Commission are contained in USITC Publication 3278 (February 2000), entitled Polyethylene Terephthalate (PET) Film from Korea: Investigation No. 731-TA-459 (Review).

Issued: February 16, 2000.
By order of the Commission.
Donna R. Koehnke,
Secretary.

[FR Doc. 00-4361 Filed 2-23-00; 8:45 am]

BILLING CODE 7020-02-P